DEPARTMENT OF TRANSPORTATION

Federal Aviation Administration

14 CFR Part 39

[Docket No. FAA-2004-18603; Directorate Identifier 2003-NM-14-AD]

RIN 2120-AA64

Airworthiness Directives; Airbus Model A310; and Model A300 B4-600, B4-600R, C4-605R Variant F, and F4-600R (Collectively Called A300-600) Series Airplanes

AGENCY: Federal Aviation Administration (FAA), DOT.

ACTION: Notice of proposed rulemaking (NPRM).

SUMMARY: The FAA proposes to supersede an existing airworthiness directive (AD) for certain Model A310; and Model A300 B4-600, A300 B4-600R, and A300 F4-600R (collectively called A300-600) series airplanes. That AD currently requires modifying the ram air turbine (RAT) by replacing the ejection jack. This proposed AD would require a one-time inspection of the RAT ejection jack to determine the part number, and further investigative and corrective actions if necessary. This proposed AD is prompted by the discovery of a rupture in the housing of one of the RAT ejection jacks installed as specified in the existing AD. We are proposing this AD to prevent rupture of the housing of the RAT ejection jack due to overpressure in the jack caused by overfilling the hydraulic fluid, and consequent failure of the RAT ejection jack. Failure of the ejection jack could result in a lack of hydraulic pressure or electrical power in an emergency.

DATES: We must receive comments on this proposed AD by August 16, 2004.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

You can get the service information identified in this proposed AD from Airbus, 1 Rond Point Maurice Bellonte, 31707 Blagnac Cedex, France.

You may examine the contents of this AD docket on the Internet at http://dms.dot.gov, or at the Docket Management Facility, U.S. Department of Transportation, 400 Seventh Street, SW., room PL-401, on the plaza level of the Nassif Building, Washington, DC.

FOR FURTHER INFORMATION CONTACT: Dan Rodina, Aerospace Engineer; International Branch, ANM-116, FAA, Transport Airplane Directorate, 1601 Lind Avenue, SW., Renton, Washington 98055-4056; telephone (425) 227-2125; fax (425) 227-1149.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any written relevant data, views, or arguments regarding this proposed AD. Send your comments to an address listed under ADDRESSES. Include “Docket No. FAA-2004-18603; Directorate Identifier 2003-NM-14-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You may examine the AD docket in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

On June 21, 2001, we issued AD 2001-13-16, amendment 39-12297 (66 FR 34798, July 2, 2001), for certain Model A310 and Model A300 B4-600, A300 B4-600R, and A300 F4-600R (collectively called A300-600) series airplanes. That AD requires replacing the ejection jack on the ram air turbine (RAT). That AD was prompted by the discovery of an anomaly during production, and follow-up analysis that showed that the nut at the end of the ejection jack piston rod had insufficient thread engagement to absorb impact loads when the RAT was deployed at high speed. We issued that AD to prevent loss of ability to properly restrain the movement of the RAT and possible consequent damage to the RAT itself and to other airplane components. In the event of an emergency, failure of the RAT ejection jack could result in a lack of hydraulic pressure or electrical power on the airplane.

Actions Since Existing AD Was Issued

Since we issued AD 2001-13-16, the Direction Générale de l'Aviation Civile (DGAC), which is the airworthiness authority for France, has notified us that, during a routine inspection, a rupture was discovered in the housing of one of the RAT ejection jacks installed as specified in AD 2001-13-16. Investigation revealed that a certain batch of ejection jacks were serviced incorrectly, which may have led to overfilling of the ejection jacks and overpressure in the ejection jack. This condition, if not corrected, could result in a rupture of the housing of the RAT ejection jack, leading to failure of the RAT ejection jack. In the event of an emergency, failure of the RAT ejection jack could result in a lack of hydraulic pressure or electrical power.

Relevant Service Information

Airbus has issued Service Bulletins A300-29-6050, Revision 02, dated April 16, 2003 (for Model A300-600 series airplanes); and A310-29-2088, Revision 01, dated February 3, 2003 (for Model A310 series airplanes). The service bulletins describe procedures for a one-time inspection of the RAT ejection jack to determine the part number, and applicable related investigative and corrective actions. The investigative and corrective actions include determining the serial number of the RAT ejection jack; measuring the fluid level of the ejection jack, if the serial number is one of the affected batch; and servicing the fluid level, or replacing the RAT ejection jack with a new RAT ejection jack, as applicable. We have determined that accomplishing the actions specified in the service information will adequately address the unsafe condition. The DGAC mandated these service bulletins and issued French airworthiness directive 2002-638(B), dated December 24, 2002, to ensure the continued airworthiness of these airplanes in France.

The Airbus service bulletins refer to Hamilton Sundstrand Service Bulletin ERPS03/04EJ-29-2, dated May 8, 2002, as an additional source of service information for identifying subject RAT ejection jacks and performing the applicable related investigative and corrective actions described previously.

FAA's Determination and Requirements of the Proposed AD

These airplane models are manufactured in France and are type certificated for operation in the United States under the provisions of section 21.29 of the Federal Aviation Regulations (14 CFR 21.29) and the applicable bilateral airworthiness agreement. According to this bilateral airworthiness agreement, the DGAC has kept the FAA informed of the situation described above. We have examined the DGAC's findings, evaluated all pertinent information, and determined that AD action is necessary for airplanes of this type design that are certificated for operation in the United States.

Therefore, we are proposing to supersede AD 2001-13-16. This proposed AD would continue to require modifying the RAT by replacing the RAT ejection jack with a new, improved RAT ejection jack. This proposed AD would also require a one-time inspection of the RAT ejection jack to determine the part number, and further investigative and corrective actions if necessary. The proposed AD would require you to use the service information described previously to perform these actions, except as discussed under “Difference Between the Proposed AD and Service Information.”

Difference Between the Proposed AD and Service Information

Although the Accomplishment Instructions of the Airbus and Hamilton Sundstrand service bulletins describe procedures for submitting inspection results, this proposed AD would not require that action.

Change to Existing AD

This proposed AD would retain all requirements of AD 2001-13-16. Since AD 2001-13-16 was issued, the AD format has been revised, and certain paragraphs have been rearranged. As a result, the corresponding paragraph identifiers have changed in this proposed AD, as listed in the following table:

Revised Paragraph Identifiers
Requirement in AD 2001-13-16 | Corresponding requirement in this proposed AD
Paragraph (a) | Paragraph (f).
Paragraph (b) | Paragraph (g).

We have also revised the applicability of the existing AD to identify model designations as published in the most recent type certificate data sheet for the affected models.

Costs of Compliance

AD 2001-13-16 affects about 117 airplanes of U.S. registry. The actions that are currently required by AD 2001-13-16 and retained in this proposed AD take about 6 work hours per airplane, at an average labor rate of $65 per work hour. There is no charge for required parts. Based on these figures, the estimated cost of the currently required actions for U.S. operators is $45,630, or $390 per airplane.

This proposed AD would affect approximately 149 airplanes of U.S. registry. The new proposed inspection would take about 1 work hour per airplane, at an average labor rate of $65 per work hour. Based on these figures, the estimated cost of the new actions specified in this proposed AD for U.S. operators is $9,685, or $65 per airplane.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-12297 (66 FR 34798, July 2, 2001) and adding the following new airworthiness directive (AD):

Airbus: Docket No. FAA-2004-18603; Directorate Identifier 2003-NM-14-AD.

Comments Due Date

(a) The Federal Aviation Administration must receive comments on this AD action by August 16, 2004.

Affected ADs

(b) This AD supersedes AD 2001-13-16, amendment 39-12297 (66 FR 34798, July 2, 2001).

Applicability

(c) This AD applies to Airbus Model A310, and A300 B4-600, B4-600R, C4 605R Variant F, and F4-600R (collectively called A300-600) series airplanes; certificated in any category; as listed in Airbus Service Bulletin A300-29-6050, Revision 02, dated April 16, 2003; or A310-29-2088, Revision 01, dated February 3, 2003.

Unsafe Condition

(d) This AD was prompted by the discovery of a rupture in the housing of one of the RAT ejection jacks installed as specified in the existing AD. We are issuing this AD to prevent rupture of the housing of the RAT ejection jack due to overpressure in the jack caused by overfilling the hydraulic fluid, and consequent failure of the RAT ejection jack. Failure of the ejection jack could result in a lack of hydraulic pressure or electrical power in an emergency.

Compliance

(e) You are responsible for having the actions required by this AD performed within the compliance times specified, unless the actions have already been done.

Requirements of AD 2001-13-16

Modification

(f) For airplanes on which Airbus Modification 12259 has not been accomplished: Within 34 months after August 6, 2001 (the effective date of AD 2001-13-16, amendment 39-12297), modify the RAT per Airbus Service Bulletin A310-29-2086, Revision 01 (for Model A310 series airplanes), or A300-29-6048, Revision 01 (for Model A300-600 series airplanes), both dated July 12, 2000, as applicable.

Note 1: Modification of the RAT accomplished prior to August 6, 2001, in accordance with Airbus Service Bulletin A310-29-2086 or A300-29-6048, both dated April 6, 2000, as applicable, is considered acceptable for compliance with the action specified in paragraph (f) of this AD.

Parts Installation

(g) As of August 6, 2001, no person may install on an airplane an ejection jack, part number 730820, unless it has been modified per paragraph (f) of this AD.

Note 2: Airbus Service Bulletin A310-29-2086 and A300-29-6048, both Revision 01, refer to Hamilton Sundstrand Service Bulletin No. ERPS03/04EJ-29-1, as an additional source of service information for accomplishment of the modification of the RAT and testing of the modified RAT.

New Requirements of This AD

Inspection

(h) Within 2,500 flight hours after the effective date of this AD: Inspect the RAT ejection jack to determine the part number (P/N), in accordance with the Accomplishment Instructions of the applicable Airbus Service Bulletin listed in Table 1 of this AD. If the P/N can be determined and is neither 772652 nor 772654, no further action is required by this paragraph.

Table 1.—Service Information
For this airplane model and series— | Airbus service bulletin—
A300-600 | A300-29-6050, Revision 02, dated April 16, 2003.
A310 | A310-29-2088, Revision 01, dated February 3, 2003.

Note 3: Airbus Service Bulletins A300-29-6050 and A310-29-2088 refer to Hamilton Sundstrand Service Bulletin ERPS03/04EJ-29-2, dated May 8, 2002, as an additional source of service information for identifying subject RAT ejection jacks and performing the applicable related investigative and corrective actions.

Related Investigative and Corrective Actions (If Necessary)

(i) If the P/N on the RAT ejection jack is either 772652 or 772654, or if the P/N cannot be determined: Before further flight, accomplish all applicable related investigative and corrective actions in accordance with the Accomplishment Instructions of the applicable Airbus Service Bulletin listed in Table 1 of this AD.

Actions Accomplished Previously

(j) Inspections and related investigative and corrective actions done before the effective date of this AD in accordance with Airbus Service Bulletin A300-29-6050 (for Model A300-600 series airplanes); or A310-29-2088 (for Model A310 series airplanes); both dated July 23, 2002; as applicable; are acceptable for compliance with the corresponding actions required by paragraphs (h) and (i) of this AD.

Alternative Methods of Compliance (AMOCs)

(k) The Manager, International Branch, ANM-116, Transport Airplane Directorate, FAA, has the authority to approve AMOCs for this AD, if requested in accordance with the procedures found in 14 CFR 39.19.

Related Information

(l) French airworthiness directive 2002-638(B), dated December 24, 2002, also addresses the subject of this AD.

Issued in Renton, Washington, on July 8, 2004.
Kevin M. Mullin,
Acting Manager, Transport Airplane Directorate, Aircraft Certification Service.

[FR Doc. 04-16031 Filed 7-14-04; 8:45 am]

BILLING CODE 4910-13-P